DEPARTMENT OF HEALTH AND HUMAN SERVICES

Meeting of the President's Council on Bioethics

AGENCY: President's Council on Bioethics, HHS.

ACTION: Notice of public meeting.

SUMMARY: The President's Council on Bioethics will hold its second meeting to discuss its agenda and future activities.

DATES: The meeting will take place February 13, 2002, from 8:30 am to 5:30 pm and February 14, 2002, from 8:30 am to 1:00 pm.

ADDRESSES: The meeting location is Loews L'Enfant Plaza Hotel at 480 L'Enfant Plaza, SW., Washington, DC.

FOR FURTHER INFORMATION CONTACT: Ms. Deborah McMahon, President's Council on Bioethics, Sixth Floor, 1801 Pennsylvania Avenue, NW., Washington, DC 20006. 202/296-4694.

SUPPLEMENTARY INFORMATION: The President's Council on Bioethics is a presidential advisory committee charged, among other things, with conducting fundamental inquiry into the moral and human meaning of developments in biomedical science and technology. Included in its discussions at the Council's second meeting will be the ethics of human cloning and recent National Academy of Sciences' report on cloning.

Dated: January 28, 2002.
Dean Clancy,
Executive Director, President's Council on Bioethics.

[FR Doc. 02-2430 Filed 1-31-02; 8:45 am]

BILLING CODE 4110-60-P